DEPARTMENT OF COMMERCE

International Trade Administration

[A-570-045]

1-Hydroxyethylidene-1, 1-Diphosphonic Acid From the People's Republic of China: Rescission of Antidumping Duty Administrative Review; 2018-2019

AGENCY: Enforcement and Compliance, International Trade Administration, Department of Commerce.

SUMMARY: The Department of Commerce (Commerce) is rescinding its administrative review of the antidumping duty order on 1-hydroxyethylidene-1, 1-diphosphonic acid (HEDP) from the People's Republic of China (China) for the period May 1, 2018, through April 30, 2019.

DATES: Applicable September 5, 2019.

FOR FURTHER INFORMATION CONTACT: Genevieve Coen, Enforcement and Compliance, Office V, International Trade Administration, U.S. Department of Commerce, 1401 Constitution Avenue NW, Washington, DC 20230; telephone: (202) 482-3251.

SUPPLEMENTARY INFORMATION:

Background

On May 1, 2019, Commerce published in the Federal Register a notice of opportunity to request an administrative review of the antidumping duty (AD) order on HEDP from China for the period of review (POR) May 1, 2018, through April 30, 2019.¹ On May 31, 2019, Commerce received a timely request to conduct an administrative review of the AD order on HEDP from China from Compass Chemical International LLC (the petitioner) for three companies: Henan Qingshuiyuan Technology Co., Ltd. (Qingshuiyuan); Nantong Uniphos Chemicals Co., Ltd. (Nantong Uniphos); and Nanjing University of Chemical Technology Changzhou Wujin Water Quality Stabilizer Factory (Changzhou Wujin).² On July 15, 2019, in accordance with section 751(a) of the Tariff Act of 1930, as amended (the Act), and 19 CFR 351.221(c)(1)(i), Commerce initiated an administrative review of the AD order on HEDP from China with respect to Qingshuiyuan, Nantong Uniphos, and Changzhou Wujin.³

¹ See Antidumping or Countervailing Duty Order, Finding, or Suspended Investigation; Opportunity to Request Administrative Review, 84 FR 18479 (May 1, 2019).

² See the petitioner's letter, “Request for Administrative Review: 1-Hydroxyethylidene-1, 1-Diphosphonic Acid from the People's Republic of China,” dated May 31, 2019.

³ See Initiation of Antidumping and Countervailing Duty Administrative Reviews, 84 FR 33739 (July 15, 2019).

On July 22, 2019, Commerce placed on the record information from U.S. Customs and Border Protection (CBP) indicating that there were no reviewable entries of subject merchandise exported by the companies subject to this administrative review during the POR.⁴ No parties submitted comments on the CBP data.

⁴ See Memorandum, “Release of Customs and Border Protection (CBP) Data Query,” dated July 22, 2019.

On August 26, 2019, the petitioner timely withdrew its request for an administrative review of the AD order on HEDP from China.⁵

⁵ See the petitioner's letter, “1-Hydroxyethylidene-1, 1-Diphosphonic Acid from the People's Republic of China,” dated August 26, 2019.

Rescission of Review

Pursuant to 19 CFR 351.213(d)(1), Commerce will rescind an administrative review, in whole or in part, if the party that requested the review withdraws its request within 90 days of the publication date of the notice of initiation of the requested review. The petitioner withdrew its request for review within the 90-day deadline. Because Commerce received no other requests for review of Qingshuiyuan, Nantong Uniphos, and Changzhou Wujin, and no other requests were made for a review of the AD order on HEDP from China with respect to other companies, we are rescinding the administrative review covering the period May 1, 2018, through April 30, 2019, in its entirety, in accordance with 19 CFR 351.213(d)(1).

Assessment

Commerce will instruct CBP to assess AD duties on all appropriate entries of HEDP from China during the POR. For the companies for which this review is rescinded, AD duties shall be assessed at rates equal to the cash deposit rate of estimated AD duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of AD duties prior to liquidation of the relevant entries during this review period. Failure to comply with this requirement could result in the presumption that reimbursement of the AD duties occurred and the subsequent assessment of double AD duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

This notice is published in accordance with section 751 and 777(i)(1) of the Act and 19 CFR 351.213(d)(4).

Dated: August 29, 2019.
James Maeder,
Deputy Assistant Secretary for Antidumping and Countervailing Duty Operations.

[FR Doc. 2019-19192 Filed 9-4-19; 8:45 am]

BILLING CODE 3510-DS-P